DEPARTMENT OF ENERGY

Federal Energy Regulatory Commission

Combined Notice of Filings #1

July 19, 2010.

Take notice that the Commission received the following exempt wholesale generator filings:

Docket Numbers: EG10-52-000.

Applicants: RRI Energy West, Inc.

Description: Notice of Self-Certification of Exempt Wholesale Generator Status of RRI Energy West, Inc.

Filed Date: 07/19/2010.

Accession Number: 20100719-5047.

Comment Date: 5 p.m. Eastern Time on Monday, August 09, 2010.

Take notice that the Commission received the following electric rate filings:

Docket Numbers: ER96-1361-017; ER07-903-006; ER00-1770-023; ER99-2781-015; ER04-472-012; ER08-1336-004; ER01-202-012; ER98-3096-019; ER98-4138-013; ER04-472-013.

Applicants: Atlantic City Electric Company; Bethlehem Renewable Energy, LLC; Conectiv Energy Supply, Inc.; Delmarva Power & Light Company; Eastern Landfill Gas, LLC; Energy Systems North East LLC; Potomac Power Resources, Inc.; Pepco Energy Services, Inc.; Potomac Electric Power Company; Fauquier Landfull Gas, LLC.

Description: Notification of Change in Status of Pepco Holdings Inc.

Filed Date: 07/19/2010.

Accession Number: 20100719-5040.

Comment Date: 5 p.m. Eastern Time on Monday, August 09, 2010.

Docket Numbers: ER01-390-009; ER99-3450-011; ER99-2769-012; ER00-2706-009; ER01-2760-008; ER10-566-003; ER08-1255-005; ER98-4515-011; ER09-1364-003; ER01-138-008; ER06-744-006; ER01-1418-012; ER02-1238-012; ER03-28-006; ER03-398-013; ER09-1488-002; ER02-1884-011.

Applicants: Chandler Wind Partners, LLC, Foote Creek II, LLC, Foote Creek IV, LLC, Ridge Crest Wind Partners, LLC, Oak Creek Wind Power, LLC, Delta Person Limited Partnership, Waterside Power LLC, Michigan Power Limited Partnership, Sabine Cogen LP, Foote Creek III, LLC, Effingham County Power, LLC, MPC Generating, LLC, Walton County Power, LLC, Washington County Power, LLC, Black Bear Hydro Partners, LLC, Coso Geothermal Power Holdings, LLC, Cadillac Renewable Energy LLC.

Description: Notice of Non-Material Change in Status of Chandler Wind Partners, LLC, et. al. under ER01-390, et al.

Filed Date: 07/12/2010.

Accession Number: 20100712-5166.

Comment Date: 5 p.m. Eastern Time on Monday, August 02, 2010.

Docket Numbers: ER10-941-003.

Applicants: Southwest Power Pool, Inc.

Description: Southwest Power Pool, Inc. submits certain revisions to the protocols attached to the Seams Agreement with Entergy Services, Inc.

Filed Date: 07/15/2010.

Accession Number: 20100716-0202.

Comment Date: 5 p.m. Eastern Time on Thursday, August 05, 2010.

Docket Numbers: ER10-1339-001.

Applicants: Southern Indiana Gas and Electric Company.

Description: Southern Indiana Gas and Electric Company, Inc. submits tariff filing per 35: Southern Indiana Gas & Electric Company Ancillary Services Tariff to be effective 7/16/2010.

Filed Date: 07/16/2010.

Accession Number: 20100716-5041.

Comment Date: 5 p.m. Eastern Time on Friday, August 06, 2010.

Docket Numbers: ER10-1472-001.

Applicants: Choice Energy, LLC.

Description: Choice Energy, LLC submits their Application for Order Accepting Rates for Filing and Granting Waivers and Blanket Approvals.

Filed Date: 07/16/2010.

Accession Number: 20100716-0181.

Comment Date: 5 p.m. Eastern Time on Friday, August 06, 2010.

Docket Numbers: ER10-1785-000.

Applicants: UBS AG.

Description: UBS AG submits tariff filing per 35.12: UBS AG Electric Rate Schedule Baseline to be effective 7/15/2010.

Filed Date: 07/15/2010.

Accession Number: 20100715-5074.

Comment Date: 5 p.m. Eastern Time on Thursday, August 05, 2010.

Docket Numbers: ER10-1786-000.

Applicants: Credit Suisse Energy, LLC.

Description: Credit Suisse Energy, LLC submits tariff filing per 35.12: Credit Suisse Energy LLC Electric Rate Schedule to be effective 7/15/2010.

Filed Date: 07/15/2010.

Accession Number: 20100715-5075.

Comment Date: 5 p.m. Eastern Time on Thursday, August 05, 2010.

Docket Numbers: ER10-1787-000.

Applicants: PSEG Energy Resources & Trade LLC.

Description: PSEG Energy Resources & Trade LLC submits tariff filing per 35: Compliance filing of PSEG ER&T Reactive Supply & Voltage Control Service Tariff to be effective 7/15/2010.

Filed Date: 07/15/2010.

Accession Number: 20100715-5108.

Comment Date: 5 p.m. Eastern Time on Thursday, August 05, 2010.

Docket Numbers: ER10-1788-000.

Applicants: Pacific Gas and Electric Company.

Description: Pacific Gas and Electric Company submits tariff filing per 35.13(a)(2)(iii): Revision to Trinity Public Utilities District Interconnection Agreement to be effective 9/14/2010.

Filed Date: 07/16/2010.

Accession Number: 20100716-5000.

Comment Date: 5 p.m. Eastern Time on Friday, August 06, 2010.

Docket Numbers: ER10-1789-000.

Applicants: PSEG Energy Resources & Trade LLC.

Description: PSEG Energy Resources & Trade LLC submits tariff filing per 35: PSEG Energy Resources & Trade LLC Market-Based Rate Tariff Volume No. 1 to be effective 7/16/2010.

Filed Date: 07/16/2010.

Accession Number: 20100716-5036.

Comment Date: 5 p.m. Eastern Time on Friday, August 06, 2010.

Docket Numbers: ER10-1790-000.

Applicants: BP Energy Company.

Description: BP Energy Company submits tariff filing per 35.12: Baseline MBR Tariff Filing of BP Energy Company to be effective 8/1/2010.

Filed Date: 07/16/2010.

Accession Number: 20100716-5051.

Comment Date: 5 p.m. Eastern Time on Friday, August 06, 2010.

Docket Numbers: ER10-1791-000.

Applicants: Midwest Independent Transmission System Operator, Inc.

Description: Midwest Independent Transmission System Operator, Inc. et al submits the proposed revisions to their ISO Open Access Transmission, Energy and Operating Reserve Markets Tariff.

Filed Date: 07/15/2010.

Accession Number: 20100716-0206.

Comment Date: 5 p.m. Eastern Time on Thursday, August 05, 2010.

Docket Numbers: ER10-1792-000.

Applicants: PJM Interconnection, LLC.

Description: PJM Interconnection, LLC submits an executed interim interconnection service agreement with Blackstone Wind Farm III LLC et al.

Filed Date: 07/15/2010.

Accession Number: 20100716-0203.

Comment Date: 5 p.m. Eastern Time on Thursday, August 05, 2010.

Docket Numbers: ER10-1793-000.

Applicants: PSEG Power Connecticut LLC.

Description: PSEG Power Connecticut LLC submits tariff filing per 35: Compliance Filing re PSEG Power Connecticut LLC Market-Based Rate Tariff to be effective 7/16/2010.

Filed Date: 07/16/2010.

Accession Number: 20100716-5091.

Comment Date: 5 p.m. Eastern Time on Friday, August 06, 2010.

Docket Numbers: ER10-1794-000.

Applicants: Public Service Company of Colorado.

Description: Public Service Company of Colorado submits tariff filing per 35.12: 2010_7_16_WestConnect_Baseline to be effective 7/16/2010.

Filed Date: 07/16/2010.

Accession Number: 20100716-5095.

Comment Date: 5 p.m. Eastern Time on Friday, August 06, 2010.

Docket Numbers: ER10-1795-000.

Applicants: Golden Spread Electric Cooperative, Inc.

Description: Golden Spread Electric Cooperative, Inc. submits tariff filing per 35: 2010 Annual Update to be effective 7/16/2010.

Filed Date: 07/16/2010.

Accession Number: 20100716-5101.

Comment Date: 5 p.m. Eastern Time on Friday, August 06, 2010.

Docket Numbers: ER10-1796-000.

Applicants: Southwestern Public Service Company.

Description: Southwestern Public Service Company submits tariff filing per 35.12: 20100716_Baseline Filing to be effective 7/16/2010.

Filed Date: 07/16/2010.

Accession Number: 20100716-5120.

Comment Date: 5 p.m. Eastern Time on Friday, August 06, 2010.

Docket Numbers: ER10-1797-000.

Applicants: Northern States Power Company, a Minnesota Corporation.

Description: Northern States Power Company, a Minnesota corporation submits tariff filing per 35.12: 20100716_Baseline Filing to be effective 7/16/2010.

Filed Date: 07/16/2010.

Accession Number: 20100716-5137.

Comment Date: 5 p.m. Eastern Time on Friday, August 06, 2010.

Docket Numbers: ER10-1798-000.

Applicants: Northern States Power Company, a Wisconsin Corporation.

Description: Northern States Power Company, a Wisconsin corporation submits tariff filing per 35.12: 20100716_Baseline Filing to be effective 7/16/2010.

Filed Date: 07/19/2010.

Accession Number: 20100719-5000.

Comment Date: 5 p.m. Eastern Time on Monday, August 09, 2010.

Docket Numbers: ER10-1799-000.

Applicants: Public Service Company of Colorado.

Description: Public Service Company of Colorado submits tariff filing per 35.12: 20100719_Baseline Filing to be effective 7/16/2010.

Filed Date: 07/19/2010.

Accession Number: 20100719-5039.

Comment Date: 5 p.m. Eastern Time on Monday, August 09, 2010.

Docket Numbers: ER10-1800-000.

Applicants: Indianapolis Power & Light Company.

Description: Indianapolis Power & Light Company submits tariff filing per 35.12: IPL Market Based Rate Tariff to be effective 7/20/2010.

Filed Date: 07/19/2010.

Accession Number: 20100719-5042.

Comment Date: 5 p.m. Eastern Time on Monday, August 09, 2010.

Docket Numbers: ER10-1801-000.

Applicants: The Connecticut Light and Power Company.

Description: The Connecticut Light and Power Company submits tariff filing per 35.12: CL&P Baseline Filing of Market-Based Tariff Under Order No. 714 to be effective 7/19/2010.

Filed Date: 07/19/2010.

Accession Number: 20100719-5069.

Comment Date: 5 p.m. Eastern Time on Monday, August 09, 2010.

Docket Numbers: ER10-1802-000.

Applicants: Dominion Energy Manchester Street, Inc.

Description: Dominion Energy Manchester Street, Inc. submits tariff filing per 35.12: Baseline to be effective 7/19/2010.

Filed Date: 07/19/2010.

Accession Number: 20100719-5070.

Comment Date: 5 p.m. Eastern Time on Monday, August 09, 2010.

Docket Numbers: ER10-1805-000.

Applicants: Public Service Company of New Hampshire.

Description: Public Service Company of New Hampshire submits tariff filing per 35.12: PSNH Baseline Filing of Market-Based Tariff Under Order No. 714 to be effective 7/19/2010.

Filed Date: 07/19/2010.

Accession Number: 20100719-5083.

Comment Date: 5 p.m. Eastern Time on Monday, August 09, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St, NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. 2010-18310 Filed 7-26-10; 8:45 am]

BILLING CODE 6717-01-P